ENVIRONMENTAL PROTECTION AGENCY

[ER-FRL-8597-8]

Environmental Impacts Statements; Notice of Availability

Responsible Agency: Office of Federal Activities, General Information (202) 564-1399 or http://www.epa.gov/compliance/nepa/ Weekly receipt of Environmental Impact Statements Filed 09/21/2009 Through 09/28/2009 Pursuant to 40 CFR 1506.9.

EIS No. 20090332, Draft EIS, AFS, NV, Middle Kyle Canyon Complex Project, Construction and Operation of a Recreation Complex within the Spring Mountains National Recreation Area, Humboldt-Toiyabe National Forest, Clark County, NV, Comment Period Ends: 11/16/2009, Contact: Hal Peterson, 702-839-5572.

EIS No. 20090333, Final EIS, COE, MN, Mississippi River Headwaters Reservoir Operating Plan Evaluation (ROPE), Proposed Revision to the Operating Plan for the Reservoirs, Upper Mississippi River Headwaters, Bemidji to St. Paul, MN, Wait Period Ends: 11/06/2009, Contact: Steven J. Clark, 651-290-5278.

EIS No. 20090334, Final EIS, FRC, 00, Hubline/East to West Project, Proposes to Modify its Existing Natural Gas Transmission Pipeline System in MA, CT, RI and NJ, Wait Period Ends: 11/02/2009, Contact: Julia Bovey, 1-866-208-3372.

EIS No. 20090335, Final EIS, AFS, AZ, Black River Exchange Project, Proposal to Exchange Federal and Non-Federal Lands, Apache-Sitgreaves National Forests, Apache County, AZ, Wait Period Ends: 11/02/2009, Contact: Chris Kropp, 928-333-4301.

EIS No. 20090336, Third Final Supplement, FHW, VT, Southern Connector/Champlain Parkway Project (MEGC-M5000(1)), Construction from Interchange of I-189 to Shelburne Street (US Route &) and Extending westerly and northerly to the City of Center District within the City of Burlington, Chittenden County, VT, Wait Period Ends: 11/02/2009, Contact: Kenneth R. Sikora, Jr., 802-828-4423.

EIS No. 20090337, Draft EIS, BLM, OR, Vegetation Treatments Using Herbicides on Bureau of Land Management (BLM) Lands in Oregon, Implementation, OR, Comment Period Ends: 11/30/2009, Contact: Todd Thompson, 503-808-6026.

EIS No. 20090338, Final EIS, AFS, OR, Big Summit Allotment Management Plan, Proposes to Reauthorize Cattle Term Grazing Permits, Construct Range Improvements, and Restore Riparian Vegetation on Five Allotments, Lookout Mountain Ranger District, Ochoco National Forest, Crook County, OR, Wait Period Ends: 11/02/2009, Contact: Marcy Anderson, 541-416-6463.

EIS No. 20090339, Final EIS, AFS, 00, Ashley National Forest Motorized Travel Plan, To Improve Management of Public Summer Motorized Use by Designating Roads and Motorized Trails and Limiting Dispersed Camping to Areas, Duchesne, Daggett, Uintah Counties, Utah and Sweetwater County, Wyoming, Wait Period Ends: 11/02/2009, Contact: Kris Rutledge, 435-781-5196.

Amended Notices

EIS No. 20090250, Draft EIS, IBR, NV, Walker River Basin Acquisition Program, To Provide Water to Walker Lake an at Risk Natural Desert Terminal Lake, Funding, Walker River Basin, NV, Comment Period Ends: 10/05/2009, Contact: Caryn Huntt DeCarol, 775-884-8352. Revision to FR Notice Published 07/31/2009: Reopening the Comment Period from 09/14/2009 to 10/05/2009.

EIS No. 20090272, Draft EIS, UAF, 00, Modification of the Condor 1 and Condor 2 Military Operation Areas, 104th Fighter Wing of the Massachusetts Air National Guard Base (ANG) Proposes to Combine the Condor 1 and Condor 2 MOA, ME and NH, Comment Period Ends: 01/01/2010, Contact: Jay Nash, 703-614-0346. Revision to FR Notice Published 08/07/2009: Correction from 09/21/2009 to 11/09/2010 should be 09/21/2009 to 01/01/2010.

EIS No. 20090297, Final EIS, EPA, ND, Mandan, Hidatsa and Arikara Nation's Proposed Clean Fuels Refinery Project, Construction and Operation of a New 13,000 Barrel of Production per day Clean Fuels Refinery and Grow Hay for Buffalo, NPDES Permit, Fort Berthold Indian Reservation, Ward County, ND, Wait Period Ends: 10/28/2009, Contact: Steve Wharton, 303-312-6935. Revision to FR Notice Published 08/28/2009: Extending Comment Period from 09/28/2009 to 10/28/2009.

Dated: September 29, 2009.
Robert W. Hargrove,
Director, NEPA Compliance Division, Office of Federal Activities.

[FR Doc. E9-23824 Filed 10-1-09; 8:45 am]

BILLING CODE 6560-50-P